DEPARTMENT OF ENERGY

Federal Energy Regulatory Commission

Combined Notice of Filings #2

Take notice that the Commission received the following electric rate filings:

Docket Numbers: ER16-2713-000.

Applicants: Public Service Company of New Mexico.

Description: § 205(d) Rate Filing: Filing to Revise Depreciation Rates in PNM's Transmission Formula Rate to be effective 10/1/2016.

Filed Date: 9/30/16.

Accession Number: 20160930-5165.

Comments Due: 5 p.m. ET 10/21/16.

Docket Numbers: ER16-2714-000.

Applicants: Idaho Power Company.

Description: § 205(d) Rate Filing: Attachment K—2016 Requirement and Process Clarifications to be effective 11/30/2016.

Filed Date: 9/30/16.

Accession Number: 20160930-5167.

Comments Due: 5 p.m. ET 10/21/16.

Docket Numbers: ER16-2715-000.

Applicants: NorthWestern Corporation.

Description: § 205(d) Rate Filing: Northern Tier Transmission Group Attachment K Revisions to be effective 11/30/2016.

Filed Date: 9/30/16.

Accession Number: 20160930-5168.

Comments Due: 5 p.m. ET 10/21/16.

Docket Numbers: ER16-2716-000.

Applicants: NextEra Energy Transmission MidAtlantic, LLC.

Description: Baseline eTariff Filing: NextEra Energy Transmission MidAtlantic, LLC Filing to Establish a Formula Rate to be effective 11/30/2016.

Filed Date: 9/30/16.

Accession Number: 20160930-5169.

Comments Due: 5 p.m. ET 10/21/16.

Docket Numbers: ER16-2717-000.

Applicants: NextEra Energy Transmission Midwest, LLC.

Description: Baseline eTariff Filing: NextEra Energy Transmission Midwest, LLC Filing to Establish a Formula Rate to be effective 11/30/2016.

Filed Date: 9/30/16.

Accession Number: 20160930-5170.

Comments Due: 5 p.m. ET 10/21/16.

Docket Numbers: ER16-2718-000.

Applicants: Portland General Electric Company.

Description: § 205(d) Rate Filing: Att K Update Filing to be effective 11/1/2016.

Filed Date: 9/30/16.

Accession Number: 20160930-5180.

Comments Due: 5 p.m. ET 10/21/16.

Docket Numbers: ER16-2719-000.

Applicants: NextEra Energy Transmission New York, Inc.

Description: Baseline eTariff Filing: NextEra Energy Transmission New York, Inc. Filing to Establish a Formula Rate to be effective 11/30/2016.

Filed Date: 9/30/16.

Accession Number: 20160930-5183.

Comments Due: 5 p.m. ET 10/21/16.

Docket Numbers: ER16-2720-000.

Applicants: NextEra Energy Transmission Southwest, LLC.

Description: Baseline eTariff Filing: NextEra Energy Transmission Southwest, LLC Filing to Establish a Formula Rate to be effective 11/30/2016.

Filed Date: 9/30/16.

Accession Number: 20160930-5190.

Comments Due: 5 p.m. ET 10/21/16.

Docket Numbers: ER16-2721-000.

Applicants: New England Power Pool Participants Committee.

Description: § 205(d) Rate Filing: Oct 2016 Membership Filing to be effective 10/1/2016.

Filed Date: 9/30/16.

Accession Number: 20160930-5199.

Comments Due: 5 p.m. ET 10/21/16.

Docket Numbers: ER16-2722-000.

Applicants: Arizona Public Service Company.

Description: § 205(d) Rate Filing: EIM OATT Flexible Ramping Product REvisions to be effective 10/1/2016.

Filed Date: 9/30/16.

Accession Number: 20160930-5209.

Comments Due: 5 p.m. ET 10/21/16.

Docket Numbers: ER16-2723-000.

Applicants: Connecticut Yankee Atomic Power Company.

Description: § 205(d) Rate Filing: Connecticut Yankee Application to Update Decommissioning Estimate to be effective 12/1/2016.

Filed Date: 9/30/16.

Accession Number: 20160930-5259.

Comments Due: 5 p.m. ET 10/21/16.

Docket Numbers: ER16-2724-000.

Applicants: Duke Energy Carolinas, LLC.

Description: § 205(d) Rate Filing: Amendments to Duke Cities NITSAs to be effective 9/1/2016.

Filed Date: 9/30/16.

Accession Number: 20160930-5268.

Comments Due: 5 p.m. ET 10/21/16.

Docket Numbers: ER16-2725-000.

Applicants: PSEG Energy Solutions LLC.

Description: Baseline eTariff Filing: PSEG Energy Solutions LLC Market Based Rate Tariff to be effective 12/1/2016.

Filed Date: 9/30/16.

Accession Number: 20160930-5269.

Comments Due: 5 p.m. ET 10/21/16.

Take notice that the Commission received the following electric securities filings:

Docket Numbers: ES16-56-000.

Applicants: Kingsport Power Company.

Description: Application Under Section 204 of the Federal Power Act for Authorization to Issue Securities of Kingsport Power Company.

Filed Date: 9/30/16.

Accession Number: 20160930-5189.

Comments Due: 5 p.m. ET 10/21/16.

Take notice that the Commission received the following public utility holding company filings:

Docket Numbers: PH16-15-000.

Applicants: Energy Future Holdings Corp.

Description: Energy Future Holdings Corp. submits FERC 65-B Waiver Notification, et al.

Filed Date: 9/30/16.

Accession Number: 20160930-5181.

Comments Due: 5 p.m. ET 10/21/16.

Take notice that the Commission received the following electric reliability filings:

Docket Numbers: RR16-7-000.

Applicants: North American Electric Reliability Corporation.

Description: Petition of North American Electric Reliability Corporation for approval of amendments to the Western Electricity Coordinating Council bylaws.

Filed Date: 9/29/16.

Accession Number: 20160929-5220.

Comments Due: 5 p.m. ET 10/20/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 30, 2016.
Nathaniel J. Davis, Sr.,
Deputy Secretary.

[FR Doc. 2016-24204 Filed 10-5-16; 8:45 am]

BILLING CODE 6717-01-P